DEPARTMENT OF STATE

[Public Notice 11114]

30-Day Notice of Proposed Information Collection: Birth Affidavit

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to July 6, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Birth Affidavit.

• OMB Control Number: 1405-0132.

• Type of Request: Revision of a Currently Approved Collection.

• Originating Office: Department of State, Bureau of Consular Affairs, Passport Services, Office of Program Management and Operational Support (CA/PPT/S/PMO/CR).

• Form Number: DS-10.

• Respondents: Individuals.

• Estimated Number of Respondents: 5,183.

• Estimated Number of Responses: 5,183.

• Average Time per Response: 40 minutes.

• Total Estimated Burden Time: 3,455 hours.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-10, Birth Affidavit, is submitted in conjunction with an application for a U.S. passport, and is used by Passport Services to collect information for the purpose of establishing the U.S. nationality of a passport applicant who has not submitted an acceptable United States birth certificate with his/her passport application. The Secretary of State is authorized to issue U.S. passports under 22 U.S.C. 211a et seq., 8 U.S.C. 1104, and Executive Order 11295 (August 5, 1966). Pursuant to 22 U.S.C. 212 and 22 CFR 51.2, only U.S. nationals may be issued a U.S. passport. Most passport applicants establish U.S. nationality by providing a birth certificate that lists a place of birth within the United States or its outlying possessions (currently American Samoa and Swains Island). Some applicants, however, may have been born in the United States (and subject to its jurisdiction), but were never issued a birth certificate. Form DS-10 is a form affidavit for completion by a witness to the birth of such an applicant; it collects information relevant to establishing the identity of the affiant, and the birth circumstances of the passport applicant. If credible, the affidavit may permit the applicant to show U.S. nationality based on the applicant's birth in the United States, despite never having been issued a U.S. birth certificate. We use the information collected on the person completing the affidavit to confirm that individual's identity, which is relevant to confirming his or her relationship to the applicant and in assessing the likelihood that the affiant has personal knowledge of the facts of the applicant's birth.

Methodology

When needed by an applicant for a passport, a Birth Affidavit is either provided by the Department or downloaded from the Department's website and filled out by the affiant. It must be signed in the presence of a passport agent, acceptance agent, or notary public.

Zachary Parker,
Director.

[FR Doc. 2020-11965 Filed 6-2-20; 8:45 am]

BILLING CODE 4710-06-P